DEPARTMENT OF THE INTERIOR

Bureau of Land Management

Notice of Availability of the Record of Decision for the Sierra Resource Management Plan

AGENCY: Bureau of Land Management, Interior.

ACTION: Notice of Availability.

SUMMARY: In accordance with the National Environmental Policy Act (NEPA), the Federal Land Policy and Management Act (FLPMA), and Bureau of Land Management (BLM) regulations and policies, the BLM announces the availability of the Record of Decision (ROD)/Approved Sierra (California) Resource Management Plan (RMP) for public lands administered by the Folsom Field Office. The California State Director has signed the ROD, which constitutes the final decision of the BLM and makes the RMP effective immediately.

ADDRESSES: Copies of the ROD/Approved RMP are available upon request from the Bureau of Land Management, 63 Natoma Street, Folsom, CA 95630. The document is also available via the Internet at http://www.blm.gov/ca/folsom. To receive a copy of the document, contact the BLM via e-mail at caformp@ca.blm.gov or call (916) 978-4427.

FOR FURTHER INFORMATION CONTACT: Sandra McGinnis, (916) 978-4427, Bureau of Land Management, 63 Natoma Street, Folsom, CA 95630. You can also e-mail the Folsom Field Office at caformp@ca.blm.gov.

SUPPLEMENTARY INFORMATION: The planning area for the Sierra RMP encompasses portions of 15 counties in California: Yuba, Sutter, Colusa, Nevada, Placer, El Dorado, Alpine, Amador, Calaveras, San Joaquin, Tuolumne, Mariposa, Sacramento, Stanislaus, and Merced. A total of 230,000 acres of public lands and an additional 70,000 acres of subsurface mineral estate are administered by the BLM in the planning area. The Sierra RMP has been developed through collaborative planning. Although no agencies requested formal cooperating agency status, the BLM worked with Federal, State, and local agencies to better understand resource conditions and public expectations and to address concerns to the extent possible. Federally recognized Native American tribes were contacted at various times by phone, mail, and e-mail throughout the planning process, informing them of comment opportunities and soliciting their input. The BLM consulted with the State Historic Preservation Office throughout the planning process.

The RMP addresses issues such as recreation, wild and scenic river recommendations, sensitive natural and cultural resources, livestock grazing, wildland fire risk and fuel reduction, energy and mineral development, land ownership adjustments, and motorized vehicle route designations. The RMP includes two wild and scenic river suitability recommendations: South Fork American River (8.8 miles—recreational) and North Fork and Main Mokelumne River (13.7 miles—wild, scenic, recreational). The RMP includes eight new Areas of Critical Environmental Concern (ACEC): Pine Hill Preserve (3,236 acres), Cosumnes River Preserve (2,035 acres), Spivey Pond (54 acres), Deadman's Flat (796 acres), Dutch Flat/Indiana Hill Research Natural Area (320 acres), Bagby Serpentine (5,775 acres) and North Fork Cosumnes (1,129 acres). Additionally, the RMP expands three existing ACECs: Red Hills, Ione Manzanita, and Limestone Salamander ACECs. Use of public lands in these ACECs would vary depending on their individual resources and values but would likely include limitations on motorized use, mining, and other surface disturbing activities.

The Draft RMP/EIS was made available to the public via a Federal Register notice on September 15, 2006. The publication of that notice initiated a 90-day public comment period, during which time the BLM hosted four public meetings throughout the planning area. Upon evaluation of the alternatives and anticipated impacts described in the Draft RMP/EIS and based on public and agency comments, the BLM prepared the Proposed RMP/Final EIS (PRMP/FEIS), which incorporated corrections and clarifying text as well as the proposal to establish a 1,129-acre ACEC along the North Fork Cosumnes River. The preferred alternative in the Draft RMP/EIS was carried forward as the Proposed RMP in the PRMP/FEIS, which became available to the public via a Federal Register notice on June 8, 2007. Six protests were received on the PRMP/FEIS, which resulted in minor changes that provide further clarification of some of the decisions in the RMP.

The Governor of the State of California, in his letter dated August 17, 2007, stated: “Pursuant to 43 CFR 1610.3-2, and after consulting with affected State and local agencies, the Governor's Office of Planning and Research (OPR) has determined that the [BLM's Sierra] Resource Management Plan (RMP) contains some inconsistencies with local plans.” Consistent with BLM policy and OPR's recommendations, the BLM will continue to work with counties, California Department of Fish and Game, and local fire agencies to reach solutions that serve local, State, and BLM land management needs regarding wild and scenic rivers, vegetation and habitat management, wildfire protection, and other issues of shared concern.

Decisions identifying designated routes of travel for motorized vehicles are implementation decisions appealable under 43 CFR part 4. These decisions are described in Appendix A of the Approved RMP. Any party adversely affected by the BLM's decision(s) to identify, evaluate, define, delineate and/or select specific routes as available for motorized use within designated areas of travel in the Sierra Resource Management Plan may appeal within 30 days of publication of this Notice of Availability pursuant to 43 CFR, part 4, subpart E. The appeal should state the specific route(s), as identified in Appendix A of the Approved RMP, on which the decision is being appealed. The appeal must be filed with the Folsom Field Manager at the above listed address. Please consult 43 CFR part 4 for further information on the IBLA appeals process.

William S. Haigh,
Field Manager.

[FR Doc. E8-2768 Filed 2-14-08; 8:45 am]

BILLING CODE 4310-40-P